NATIONAL TRANSPORTATION SAFETY BOARD

Sunshine Act Meeting

TIME AND DATE: 9:00 a.m., Wednesday, November 15, 2017.

PLACE: NTSB Conference Center, 429 L'Enfant Plaza SW., Washington, DC 20594.

STATUS: The one item is open to the public.

MATTERS TO BE CONSIDERED: National Transportation Safety Board 2017-2018 Most Wanted List mid-point progress report meeting.

NEWS MEDIA CONTACT: Telephone: (202) 314-6100.

The press and public may enter the NTSB Conference Center 30 minutes prior to the meeting for set up and seating.

FOR MEDIA INFORMATION CONTACT: Christopher O'Neil at (202) 314-6100 or by email at christopher.oneil@ntsb.gov.

Individuals requesting specific accommodations should contact Rochelle McCallister at (202) 314-6305 or by email at Rochelle.McCallister@ntsb.gov by Wednesday, November 8, 2017.

FOR MORE INFORMATION CONTACT: Nicholas Worrell at (202) 314-6608 or safetyadvocacy@ntsb.gov.

Issued: October 23, 2017.
Candi R. Bing,
Federal Register Liaison Officer.

[FR Doc. 2017-23274 Filed 10-23-17; 11:15 am]

BILLING CODE 7533-01-P